DEPARTMENT OF COMMERCE

International Trade Administration

[A-570-848]

Freshwater Crawfish Tail Meat from the People's Republic of China; Notice of Final Results of Antidumping Duty Administrative Review and New Shipper Reviews, and Final Partial Rescission of Antidumping Duty Administrative Review

AGENCY: Import Administration, International Trade Administration, U.S. Department of Commerce.

SUMMARY: On October 11, 2000, the Department of Commerce (the Department) published the preliminary results of its administrative and new shipper reviews of the antidumping duty order on freshwater crawfish tail meat from the People's Republic of China (PRC). The administrative review and the new shipper reviews cover the period September 1, 1998 through August 31, 1999.

Based on our analysis of the comments received, we have made changes to the margin calculations. Therefore, the final results differ from the preliminary results. The final weighted-average dumping margins for the reviewed firms are listed below in the section entitled “Final Results of Review.”

EFFECTIVE DATE: April 24, 2001.

FOR FURTHER INFORMATION CONTACT: Thomas Gilgunn, Elfi Blum, Abdelali Elouaradia, or Maureen Flannery; Office of Antidumping/Countervailing Duty Enforcement VII, Import Administration, International Trade Administration, U.S. Department of Commerce, 14th Street and Constitution Avenue, NW., Washington DC 20230; telephone (202) 482-0648, (202) 482-0197, (202) 482-1374, and (202) 482-3020, respectively.

Applicable Statute

Unless otherwise indicated, all citations to the statute are references to the provisions effective January 1, 1995, the effective date of the amendments made to the Tariff Act of 1930 (the Act) by the Uruguay Round Agreements Act. In addition, unless otherwise indicated, all citations to the Department's regulations are to the provisions codified at 19 CFR part 351 (2000).

Background

On October 11, 2000, the Department published in the Federal Register the preliminary results of review of the antidumping duty order on freshwater crawfish tail meat from the PRC (65 FR 60399). Since the publication of the preliminary results, the following events have occurred. Huaiyin Foreign Trade Corporation(30) (Huaiyin30), Yancheng Foreign Trade Corporation (Yancheng FTC), Ocean Harvest Wholesale Inc. (Ocean Harvest), Nantong Delu Aquatic Food., Ltd. (Nantong Delu), Yancheng Fubao Aquatic Food Co., Ltd. (Yancheng Fubao), Louisiana Packing Company, and Yancheng Haiteng Aquatic Products & Foods Company, Ltd. (Yancheng Haiteng) submitted timely information on surrogate values on October 31, 2000. Petitioner, the Crawfish Processors Alliance, and the Louisiana Department of Agriculture & Forestry and Bob Odom, Commissioner, submitted timely information on proposed surrogate values on November 20, 2000. On November 27, 2000, we received comments on the results of preliminary review from respondents, Ningbo Nanlian Frozen Foods Corporation, Ltd. (Ningbo Nanlian)/Huaiyin Foreign Trade Corporation (5) (Huaiyin5), Yancheng Haiteng, Suquian Foreign Trade Company, Ltd. (Suquian FTC), Yangzhou Lakebest Foods Company, Ltd. (Yangzhou Lakebest), Shantou SEZ Yangfeng Marine Products Company (Shantou SEZ), Huaiyin30, Qingdao Zhengri Seafood Co., Ltd. (Qingdao Zhengri), Fujian Pelagic Fishery Group Company (Fujian Pelagic), Yancheng Baolong Biochemical Products Co., Ltd. (Baolong Biochemical), Yancheng FTC, and Nantong Delu, and from Ocean Harvest, an importer of subject merchandise. We also received comments from the petitioner.

On December 6, 2000, we received rebuttal comments from all parties listed above, except for Baolong Biochemical, Yancheng FTC, Nantong Delu, and Ocean Harvest.

On December 11, 2000, the Department conducted a public hearing on the issues presented by interested parties in their case and rebuttal briefs.

On March 22, 2001, the Department requested that interested parties comment on the use of data published by Agencia Tributaria, an agency of the Spanish government, regarding Spanish exports of whole fresh crawfish to the European Union. The Department received comments from Ningbo Nanlian/Huaiyin5, Huaiyin30, Qingdao Zhengri, Fujian Pelagic, and petitioner on March 28, 2001, and rebuttal comments from these same parties on March 30, 2001.

The Department has now completed these reviews in accordance with section 751 of the Act.

Scope of Reviews

The product covered by this review is freshwater crawfish tail meat, in all its forms (whether washed or with fat on, whether purged or unpurged), grades, and sizes; whether frozen, fresh, or chilled; and regardless of how it is packed, preserved, or prepared. Excluded from the scope of the order are live crawfish and other whole crawfish, whether boiled, frozen, fresh, or chilled. Also excluded are saltwater crawfish of any type, and parts thereof. Freshwater crawfish tail meat is currently classifiable in the Harmonized Tariff Schedule of the United States (HTS) under item numbers 1605.40.10.10, 1605.40.10.90, 0306.19.00.10 and 0306.29.00.00. The HTS subheadings are provided for convenience and Customs purposes only. The written description of the scope of this order is dispositive.

Duty Absorption

In the preliminary results we found that for Ningbo Nanlian/Huaiyin5 and Yancheng Haiteng, antidumping duties have been absorbed by the affiliated importer during the period of review (POR). In addition, we found that antidumping duties have been absorbed by Ocean Harvest for sales in which Yancheng FTC acted as the exporter for Nantong Delu during the POR. For these final results, we find that Yancheng Haiteng did not export merchandise to the United States at dumped prices during the POR. Therefore, with respect to Yancheng Haiteng, we determine that no duty absorption occurred. With respect to Ningbo Nanlian/Huaiyin5, and to sales for which Yancheng FTC acted as exporter for Nantong Delu, no additional information has been placed on the record which contradicts our preliminary finding. Therefore, for these companies, no changes to our preliminary findings have been made for these final results.

Analysis of Comments Received

All issues raised in the case and rebuttal briefs by parties to this administrative review and these new shipper reviews are addressed in the Issues and Decision Memorandum from Joseph A. Spetrini, Deputy Assistant Secretary for AD/CVD Enforcement Group III to Bernard T. Carreau, Deputy Assistant Secretary for Import Administration: Issues and Decision Memo for the Final Results of the Antidumping Duty Administrative Review and the Antidumping New Shipper Reviews of Freshwater Crawfish Tail Meat from the People's Republic of China, dated April 09, 2001 (Decision Memo), which is hereby adopted by this notice.

A list of the issues which parties have raised and to which we have responded, all of which are in the Decision Memo, is attached to this notice as an appendix. Parties can find a complete discussion of all issues raised in this review and the corresponding recommendations in this public memorandum which is on file in the Central Records Unit, room B-099 of the main Commerce Building (B-099). In addition, a complete version of the Decision Memo can be accessed directly on the Web at http://ia.ita.doc.gov. The paper copy and electronic version of the Decision Memo are identical in content.

Changes Since the Preliminary Results

Based on our analysis of comments received, we have made certain changes in the margin calculations. We have also corrected certain clerical errors in our preliminary results, where applicable. For a discussion of the issues and changes made for each company, refer to the Decision Memo, as above.

Valuation of Crawfish Input

In the investigation of sales at less than fair value (LTFV) and in previous reviews of this order, as well as in the preliminary results of these reviews, we have used data on imports into Spain from Portugal to value the live crawfish input for tail meat production. See Memorandum to Maureen Flannery from Scott Lindsay: Administrative and New Shipper Reviews of Freshwater Crawfish Tail Meat from the People's Republic of China: Factor Values Memorandum, dated September 29, 2000, at 20. However, information on the record of the current reviews indicates that the volume of imports from Portugal into Spain has decreased significantly since the period of the investigation and the first administrative review, and constituted a mere 17 metric tons during the period of the current administrative review. We considered using data on Spanish exports to the European Union, which were in significant quantities, as an alternative to import data for these final results.

As noted above, the Department requested that interested parties comment on the use of such data, which we used in the Notice of Preliminary Results of Antidumping Duty New Shipper Administrative Reviews: Freshwater Crawfish Tail Meat from the People's Republic of China, issued March 21, 2001. Both petitioner and respondents argued against use of the data because it appears to include exports of items other than live crawfish. For further details, see the Decision Memo. After analyzing the comments received, we have determined that the best information on the record of these reviews is data on Spanish imports of live crawfish from Portugal published by Agencia Tributaria of the Spanish government. However, given the decline of this market, we intend to search for alternative sources of surrogate data for the live crawfish input in other ongoing and future reviews.

Partial Rescission of Administrative Review

In our preliminary results, we concluded that Baolong Biochemical did not have any sales to the United States during the review period, and thus was not entitled to a review under section 751(a) of the Act. For a further discussion of these issues, see the relevant sections of the Decision Memo. See also Decision Memorandum for Troy H. Cribb through Joseph A. Spetrini from Barbara E. Tillman: Yancheng Baolong Biochemical Products (Baolong Biochemical): Intent to Rescind Administrative Review, of September 29, 2000. After reviewing the comments received with respect to Baolong Biochemical, we have concluded that our preliminary determination was appropriate because Baolong Biochemical had no sales to the United States during the POR. Therefore, we are rescinding the administrative review of Baolong Biochemical.

Furthermore, we did not receive any comments regarding our preliminary decision to rescind the review with respect to Huaiyin, Hua Yin, Hua Yin Foreign Trading (Hua Yin FT), and Huaiyin Foreign Trading (Huaiyin FT). Therefore, we have not altered our decision and are rescinding the administrative review for these companies. We determine that subject merchandise entering the United States under one of these names is covered by this review only to the extent that the exporter is in fact Huaiyin Foreign Trade Corporation (Huaiyin FTC), Huaiyin5, or Huaiyin30, which are separately covered by this review.

Determination to Apply Facts Available

The Department received no comments on its preliminary determination to apply facts available to Huaiyin FTC, Yupeng Fishery, or Lianyungang Haiwang Aquatic Products Co., Ltd. (Lianyungang Haiwang). Therefore, we have not altered our decision to apply facts available to these companies for these final results of review. Furthermore, after considering comments regarding Asia Europe, which was the same company as Yancheng Baolong Aquatic Foods Co., Ltd. (Baolong Aquatic) and Baolong Group during the POR, we have determined that it is appropriate to continue to apply the facts available to these companies. Therefore, we are treating all the above companies, together with all other PRC companies that have not established that they are entitled to separate rates, as a single enterprise subject to government control. Furthermore, we have determined the rate to be applied to this single enterprise is a PRC-wide rate based on adverse facts available, in accordance with section 776(b) of the Act. Section 776(b) of the Act states that adverse facts available may include information derived from the petition, the final determination, a previous administrative review, or other information placed on the record. As adverse facts available, we are using the PRC-wide rate from the LTFV investigation, 201.63 percent, which is the highest rate in any segment of this proceeding.

Final Results of Review

We determine that the following weighted-average margins exist for the period September 1, 1998 through August 31, 1999:

Manufacturer/Exporter | Margin (percent)
Ningbo Nanlian/Huaiyin5 | 2.75
Yancheng Haiteng | 0.00
Huaiyin30 | 139.68
Yancheng FTC | 35.73
Fujian Pelagic | 38.76
Yangzhou Lakebest | 0.00
Suqian FTC | 0.00
Qingdao Zhengri | 0.00
Shantou SEZ | 0.00
PRC-Wide Rate | 201.63

Cash Deposit Requirements

The following deposit requirements will be effective upon publication of this notice of final results of administrative review and new shipper reviews for all shipments of freshwater crawfish tail meat from the PRC entered, or withdrawn from warehouse, for consumption on or after the date of publication, as provided by section 751(a)(2)(C) of the Act: (1) The cash deposit rates for the reviewed companies will be the rates shown above except that, for firms whose weighted-average margins are less than 0.5 percent and therefore de minimis, the Department shall require no deposit of estimated antidumping duties; (2) for previously-reviewed PRC and non-PRC exporters with separate rates, the cash deposit rate will be the company-specific rate established for the most recent period; (3) for all other PRC exporters, the cash deposit rate will be the PRC-wide rate, 201.63 percent; and (4) for all other non-PRC exporters of the subject merchandise, the cash deposit rate will be the rate applicable to the PRC supplier of that exporter. These deposit requirements shall remain in effect until publication of the final results of the next administrative review.

This notice serves as a final reminder to importers of their responsibility under 19 CFR 351.402(f) to file a certificate regarding the reimbursement of antidumping duties prior to liquidation of the relevant entries during this review period. Failure to comply with this requirement could result in the Secretary's presumption that reimbursement of antidumping duties occurred and subsequent assessment of double antidumping duties.

This notice also serves as a reminder to parties subject to administrative protective order (APO) of their responsibility concerning the disposition of proprietary information disclosed under APO in accordance with section 351.305(a)(3) of the Department's regulations. Timely written notification of the return/destruction of APO materials or conversion to judicial protective order is hereby requested. Failure to comply with the regulations and the terms of an APO is a sanctionable violation.

This administrative review and these new shipper reviews and notice are in accordance with sections 751(a)(1), 751(a)(2)(B) and 771(i)(1) of the Act.

Dated: April 9, 2001.
Timothy J. Hauser,
Acting Under Secretary for International Trade.

Appendix

List of Issues

1. Use of Spanish Import Data as Surrogate Value for Live Crawfish

2. Use of Mexican Data as Surrogate Value for Live Crawfish

3. Use of Spanish Export Data as Surrogate Value for Live Crawfish

4. Calculation of Byproduct Value based on India Import Statistics

5. Power and Fuel Expenses as Part of Surrogate Overhead

6. Use of Annual vs. Monthly Average Exchange Rates

7. Water as a Separate Cost

8. Fujian Pelagic's Sales to Pacific Coast: Export Price vs Constructed Export Price

9. Baolong Biochemical Rescission

10. Use of the Facts on the Record to Calculate Baolong Biochemical's Dumping Margin

11. Yancheng FTC/Ocean Harvest: Calculation of Packing Material Costs

12. Ningbo/Huaiyin 5: Marine Insurance

13. Huayin 30: Partial Adverse Facts Available

[FR Doc. 01-10152 Filed 4-23-01; 8:45 am]

BILLING CODE 3510-DS-P